DEPARTMENT OF HEALTH AND HUMAN SERVICES

National Institutes of Health

Draft National Institute of Environmental Health Sciences 2018-2023 Strategic Plan

AGENCY: National Institute of Environmental Health Sciences (NIEHS), National Institutes of Health (NIH), Department of Health and Human Services (HHS).

ACTION: Request for comments.

SUMMARY: The NIEHS is updating its 2012-2017 NIEHS Strategic Plan, which can be viewed at www.niehs.nih.gov/2012plan. The goal of the current strategic planning process is to define Strategic Objectives to anticipate, set, and meet priorities in environmental health sciences research, training, and translation in support of the NIEHS mission and vision, as well as to identify key focus areas for implementation of such Strategic Objectives. NIEHS requests comment from researchers in academia and industry, health care professionals, patient advocates and advocacy organizations, scientific or professional organizations, federal agencies, and other interested members of the public on these new Strategic Objectives and focus areas, which are detailed in “NIEHS Strategic Plan 2018-2023: Advancing Environmental Health Science, Improving Health 2.0.” The draft plan may be viewed online at www.niehs.nih.gov/strategicplan.

DATES: Submit your comments online or by email on or before March 30, 2018, 5:00 p.m. EDT.

ADDRESSES: Comments are strongly encouraged to be submitted online at https://www.research.net/r/niehs_strategic_plan. They may also be submitted by email to ehs-strategic-plan@niehs.nih.gov, or by mail to: Office of the Deputy Director, NIEHS/NIH/HHS, P.O. Box 12233, Maildrop B2-06, Research Triangle Park, NC 27709.

FOR FURTHER INFORMATION CONTACT: Dr. Sheila Newton, Office of Policy, Planning and Evaluation; email: newton1@niehs.nih.gov, or call non-toll-free number 919-541-4343.

SUPPLEMENTARY INFORMATION: Background: The mission of the NIEHS is to discover how the environment affects people, in order to promote healthier lives. The vision of the NIEHS is to provide global leadership for innovative research that improves public health by preventing disease and disability. The NIEHS achieves its mission and vision through multidisciplinary biomedical research programs, as well as prevention and intervention efforts. NIEHS research is disseminated to inform evidence-based environmental health policies to prevent disease and protect health. The NIEHS also focuses on communication and research translation strategies that encompass training, education, technology transfer, and community engagement.

Request for Comment on Draft NIEHS Strategic Plan 2018-2023

During June-August 2017, the NIEHS solicited input to its strategic planning process through a public, online “Trends & Insights Survey.” This survey invited respondents to comment on any aspect of the 2012-2017 NIEHS Strategic Plan, as well as to offer potential new directions and priorities. Following this, NIEHS synthesized the input (~2,000 unique comments) and reported it to the National Advisory Environmental Health Sciences Council (NAEHSC) at its September 2017 meeting. Two members of Council led a discussion to provide further feedback. From September 2017-February 2018, NIEHS Leadership discussed the compiled input and analysis, consulted the NIH Strategic Plan, and determined the current set of Strategic Objectives and supporting focus areas of effort that are detailed in the draft plan. This plan was presented and discussed at the NAEHSC's February 2018 meeting.

The NIEHS seeks Comments from all interested parties on its draft “NIEHS Strategic Plan 2018-2023: Advancing Environmental Health Science, Improving Health 2.0.” Input received in response to this request will be collected from February 21 to March 30, 2018.

All comments should be submitted on or before COB (5:00 p.m. EDT) March 30, 2018.

Dated: February 14, 2018.
Linda S. Birnbaum,
Director, National Institute of Environmental Health Sciences and National Toxicology Program.

[FR Doc. 2018-04714 Filed 3-8-18; 8:45 am]

BILLING CODE 4140-01-P